DEPARTMENT OF THE INTERIOR

Bureau of Indian Affairs

Land Acquisitions; Cherokee Nation of Oklahoma

AGENCY: Bureau of Indian Affairs, Interior.

ACTION: Notice of final agency determination to take land into trust under 25 CFR part 151.

SUMMARY: The Associate Deputy Secretary made a final agency determination to acquire approximately 3.519 acres of land into trust for the Cherokee Nation of Oklahoma on February 9, 2007. This notice is published in the exercise of authority delegated by the Secretary of the Interior to the Principal Deputy Assistant Secretary—Indian Affairs by 209 Departmental Manual 8.

FOR FURTHER INFORMATION CONTACT: George Skibine, Office of Indian Gaming, 1849 C Street, NW., Mail Stop 3657-MIB, Washington, DC 20240; Telephone (202) 219-4066.

SUPPLEMENTARY INFORMATION: This notice is published to comply with the requirement of 25 CFR part 151.12(b) that notice be given to the public of the Secretary's decision to acquire land in trust at least 30 days prior to signatory acceptance of the land into trust. The purpose of the 30-day waiting period in 25 CFR part 151.12(b) is to afford interested parties the opportunity to seek judicial review of final administrative decisions to take land in trust for Indian tribes and individual Indians before transfer of title to the property occurs. On February 9, 2007, the Associate Deputy Secretary decided to accept approximately 3.519 acres of land into trust for the Cherokee Nation of Oklahoma under the authority of the Indian Reorganization Act of 1934, 25 U.S.C. 465. The 3.519 parcel is located within the former reservation boundaries of the Cherokee Nation near the City of Roland, Sequoyah County, Oklahoma. The parcel will be used as additional parking for the Cherokee Casino facility.

The 3.519 acre parcel is located near the City of Roland, Sequoyah County, Oklahoma is described as follows:

Part of the SW ¼ SW ¼ of Section 23, Township 11 North, Range 26 East, Sequoyah County, Oklahoma, being more particularly described as follows:

Commencing at the Southwest corner of the N ½ SW ¼ SW ¼ of said Section 23; thence East along the South line of N ½ SW ¼ SW ¼ of, 660.00 feet; thence North 00°52′00″ East 454.22 feet to the North line of the SW ¼ SW ¼; thence South 89°45′59″ East along said North line, 334.64 feet; thence South 452.78 feet; thence South 89°59′47″ West 341.52 feet to the Point of Beginning, containing 3.519 acres, more or less, Less and Except minerals.

Dated: February 9, 2007.
Michael D. Olsen,
Principal Deputy Assistant Secretary—Indian Affairs.

[FR Doc. E7-3715 Filed 3-2-07; 8:45 am]

BILLING CODE 4310-4N-P